DEPARTMENT OF TRANSPORTATION

Federal Aviation Administration

14 CFR Part 39

[Docket No. FAA-2020-1140; Project Identifier AD-2020-01009-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2017-14-13, which applies to certain The Boeing Company Model 737-600, -700, -700C, -800, -900, and -900ER series airplanes. AD 2017-14-13 requires a torque check of the screws in the cover assembly of the heel rest for both the captain's and the first officer's rudder pedals, and corrective action if necessary. Since the FAA issued AD 2017-14-13, operators have continued to find loose rudder pedal cover fasteners on previously inspected airplanes and airplanes outside the applicability of AD 2017-14-13. This proposed AD would require modifying the rudder pedal cover and shroud, and apply to all The Boeing Company Model 737-600, -700, -700C, -800, -900, and -900ER series airplanes and Model 737-8 and 737-9 airplanes. The FAA is proposing this AD to address the unsafe condition on these products.

DATES: The FAA must receive comments on this proposed AD by March 8, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available on the internet at https://www.regulations.gov by searching for and locating Docket No. FAA-2020-1140.

Examining the AD Docket

You may examine the AD docket on the internet at https://www.regulations.gov by searching for and locating Docket No. FAA-2020-1140; or in person at Docket Operations between 9 a.m. and 5 p.m., Monday through Friday, except Federal holidays. The AD docket contains this NPRM, any comments received, and other information. The street address for Docket Operations is listed above.

FOR FURTHER INFORMATION CONTACT: Douglas Tsuji, Aerospace Engineer, Systems and Equipment Section, FAA, Seattle ACO Branch, 2200 South 216th St., Des Moines, WA 98198; phone and fax: 206-231-3548; email: douglas.tsuji@faa.gov.

SUPPLEMENTARY INFORMATION:

Comments Invited

The FAA invites you to send any written relevant data, views, or arguments about this proposal. Send your comments to an address listed under the ADDRESSES section. Include “Docket No. FAA-2020-1140; Project Identifier AD-2020-01009-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact the FAA receives about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person identified in the FOR FURTHER INFORMATION CONTACT section. Any commentary that the FAA receives which is not specifically designated as CBI will be placed in the public docket for this rulemaking.

Background

The FAA issued AD 2017-14-13, Amendment 39-18957 (82 FR 33007, July 19, 2017) (“AD 2017-14-13”), for certain The Boeing Company Model 737-600, -700, -700C, -800, -900, and -900ER series airplanes. AD 2017-14-13 requires a torque check of the screws in the cover assembly of the heel rest for both the captain's and the first officer's rudder pedals, and corrective action if necessary. AD 2017-14-13 resulted from a report of an aborted takeoff because the rudder pedals were not operating correctly. Investigation revealed a protruding screw in the rudder pedal heel rest adjacent to the pedals. The FAA issued AD 2017-14-13 to address a protruding screw in the cover assembly of the heel rest of a rudder pedal. A protruding screw could restrict rudder pedal motion and reduce differential braking control during takeoff or landing, which could cause a high-speed runway excursion.

Actions Since AD 2017-14-13 Was Issued

Since the FAA issued AD 2017-14-13, operators have continued to find loose rudder pedal cover fasteners on previously inspected airplanes and on airplanes outside the applicability of the AD. The FAA has determined that this design issue is an unsafe condition that affects all The Boeing Company Model 737-600, -700, -700C, -800, -900, and -900ER series airplanes and Model 737-8 and 737-9 airplanes.

Related Service Information Under 1 CFR Part 51

The FAA reviewed Boeing Alert Requirements Bulletin 737-27A1313 RB, Revision 1, dated June 24, 2020; and Boeing Alert Requirements Bulletin 737-27A1314 RB, Revision 1, dated June 24, 2020. The service information describes procedures for modifying the captain's and first officer's rudder pedal cover and shroud assemblies. These documents are distinct since they apply to different airplane models. This service information is reasonably available because the interested parties have access to it through their normal course of business or by the means identified in the ADDRESSES section.

FAA's Determination

The FAA is issuing this NPRM after determining the unsafe condition described previously is likely to exist or develop in other products of the same type design.

Proposed AD Requirements

This proposed AD would retain none of the requirements of AD 2017-14-13. This proposed AD would expand the applicability to include all The Boeing Company Model -600, -700, -700C, -800, -900, and -900ER series airplanes and Model 737-8 and 737-9 airplanes. This proposed AD would require accomplishment of the actions identified in Boeing Alert Requirements Bulletin 737-27A1313 RB, Revision 1, dated June 24, 2020; and Boeing Alert Requirements Bulletin 737-27A1314 RB, Revision 1, dated June 24, 2020; described previously, except as discussed under “Differences Between this Proposed AD and the Service Information,” and except for any differences identified as exceptions in the regulatory text of this proposed AD.

For information on the procedures and compliance times, see this service information at https://www.regulations.gov by searching for and locating Docket No. FAA-2020-1140.

Differences Between This Proposed AD and the Service Information

The effectivity of Boeing Alert Requirements Bulletin 737-27A1313 RB, Revision 1, dated June 24, 2020, is limited to Model 737-8 and 737-9 airplanes with certain line numbers. The effectivity of Boeing Alert Requirements Bulletin 737-27A1314 RB, Revision 1, dated June 24, 2020, is limited to Model 737-600, 737-700, 737-700C, 737-800, 737-900, and 737-900ER series airplanes with certain line numbers. However, the applicability of this proposed AD includes all Boeing Model 737-600, -700, -700C, -800, -900, and -900ER series airplanes and Model 737-8 and 737-9 airplanes. Because the affected captain's and first officer's rudder pedal cover and shroud assemblies are rotable parts, the FAA has determined that these parts could later be installed on airplanes that were initially delivered with acceptable rudder pedal cover and shroud assemblies, thereby subjecting those airplanes to the unsafe condition. The agency has confirmed with Boeing that the Accomplishment Instructions in Boeing Alert Requirements Bulletin 737-27A1313 RB, Revision 1, dated June 24, 2020, and Boeing Alert Requirements Bulletin 737-27A1314 RB, Revision 1, dated June 24, 2020, are applicable to the expanded group of airplanes.

Costs of Compliance

The FAA estimates that this proposed AD affects 2,048 airplanes of U.S. registry. The FAA estimates the following costs to comply with this proposed AD:

Estimated Costs for Required Actions
Action | Labor cost | Parts cost | Cost per product | Cost on U.S. operators
Modifying rudder pedal shroud assemblies | Up to 13 work-hours × $85 per hour = Up to $1,105 | $5,560 | Up to $6,665 | Up to $13,649,920.

The FAA has included all costs in its cost estimate. According to the manufacturer, however, some or all of the costs of this proposed AD may be covered under warranty, thereby reducing the cost impact on affected operators.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2017-14-13, Amendment 39-18957 (82 FR 33007, July 19, 2017), and

b. Adding the following new airworthiness directive:

The Boeing Company: Docket No. FAA-2020-1140; Project Identifier AD-2020-01009-T.

(a) Comments Due Date

The FAA must receive comments on this airworthiness directive (AD) action by March 8, 2021.

(b) Affected ADs

This AD replaces AD 2017-14-13, Amendment 39-18957 (82 FR 33007, July 19, 2017) (AD 2017-14-13).

(c) Applicability

This AD applies to all The Boeing Company airplanes specified in paragraphs (c)(1) and (2) of this AD, certificated in any category.

(1) Model 737-600, -700, -700C, -800, -900, and -900ER series airplanes.

(2) Model 737-8 and 737-9 airplanes.

(d) Subject

Air Transport Association (ATA) of America Code 27, Flight controls.

(e) Unsafe Condition

This AD was prompted by a report of an aborted takeoff because the rudder pedals were not operating correctly, and by additional reports of loose rudder pedal cover fasteners on previously inspected airplanes and on additional airplanes that were not included in the applicability of AD 2017-14-13. The FAA is issuing this AD to address incorrectly installed cover assembly fasteners from interfering with the operation of a rudder pedal. An incorrectly installed fastener could restrict rudder pedal motion and reduce differential braking control during takeoff or landing, which could cause a high-speed runway excursion.

(f) Compliance

Comply with this AD within the compliance times specified, unless already done.

(g) Determination of Modification Status

For airplanes with an original airworthiness certificate or original export certificate of airworthiness issued before the effective date of this AD: Within 27 months after the date of issuance of the original airworthiness certificate or original export certificate of airworthiness, or within 27 months after the effective date of this AD, whichever occurs later, determine whether the captain's and first officer's rudder pedal cover and shroud assemblies have been modified as specified in Boeing Alert Requirements Bulletin 737-27A1313 RB, Revision 1, dated June 24, 2020, or 737-27A1314 RB, Revision 1, dated June 24, 2020, as applicable, or by production equivalent. A review of airplane maintenance records is acceptable for this requirement if the modification status can be conclusively determined from that review.

(h) Modification

For airplanes that have not been modified as determined by paragraph (g) of this AD: At the applicable times specified in the “Compliance” paragraph of Boeing Alert Requirements Bulletin 737-27A1313 RB, Revision 1, dated June 24, 2020, or Boeing Alert Requirements Bulletin 737-27A1314 RB, Revision 1, dated June 24, 2020, as applicable, except as specified by paragraph (i) of this AD, do all applicable actions identified in, and in accordance with, the Accomplishment Instructions of Boeing Alert Requirements Bulletin 737-27A1313 RB, Revision 1, dated June 24, 2020, or Boeing Alert Requirements Bulletin 737-27A1314 RB, Revision 1, dated June 24, 2020, as applicable.

Note 1 to paragraph (h): Guidance for accomplishing the actions required by paragraph (h) of this AD can be found in Boeing Alert Service Bulletin 737-27A1313, Revision 1, dated June 24, 2020, and Boeing Alert Service Bulletin 737-27A1314, Revision 1, dated June 24, 2020, which are referred to in Boeing Alert Requirements Bulletin 737-27A1313 RB, Revision 1, dated June 24, 2020, and Boeing Alert Requirements Bulletin 737-27A1314 RB, Revision 1, dated June 24, 2020, respectively.

(i) Exception to Service Information Specifications

Where Boeing Alert Requirements Bulletin 737-27A1313 RB, Revision 1, dated June 24, 2020, and Boeing Alert Requirements Bulletin 737-27A1314 RB, Revision 1, dated June 24, 2020, use the phrase “the original issue date of” each Requirements Bulletin for compliance, this AD requires using the effective date of this AD.

(j) Credit for Previous Actions

This paragraph provides credit for the actions specified in paragraph (h) of this AD, if those actions were performed before the effective date of this AD using Boeing Alert Requirements Bulletin 737-27A1313 RB, dated March 18, 2020, or Boeing Alert Requirements Bulletin 737-27A1314 RB, dated March 18, 2020.

(k) Parts Installation Limitation

(1) For airplanes with an original airworthiness certificate or original export certificate of airworthiness issued after the effective date of this AD: As of the effective date of this AD, no person may install a captain's or first officer's rudder pedal cover or shroud assembly on any airplane, unless the cover or shroud assembly has been modified in accordance with the requirements of paragraph (h) of this AD.

(2) For airplanes with an original airworthiness certificate or original export certificate of airworthiness issued prior to the effective date of this AD: After the modification required by paragraph (h) of this AD has been done, no person may install a captain's or first officer's rudder pedal cover or shroud assembly on any airplane, unless the cover or shroud assembly has been modified in accordance with the requirements of paragraph (h) of this AD. Reinstallation of a rudder pedal cover or shroud assembly that has not been modified in accordance with paragraph (h) of this AD but has been removed for other maintenance is allowed.

(l) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) AMOCs approved previously for AD 2017-14-13 are not approved as AMOCs for the corresponding provisions of this AD.

(5) For service information that contains steps that are labeled as Required for Compliance (RC), the provisions of paragraphs (l)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

(1) For more information about this AD, contact Douglas Tsuji, Aerospace Engineer, Systems and Equipment Section, FAA, Seattle ACO Branch, 2200 South 216th St., Des Moines, WA 98198; phone and fax: 206-231-3548; email: douglas.tsuji@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Airworthiness Products Section, Operational Safety Branch, 2200 South 216th St., Des Moines, WA. For information on the availability of this material at the FAA, call 206-231-3195.

Issued on December 17, 2020.
Lance T. Gant,
Director, Compliance & Airworthiness Division, Aircraft Certification Service.

[FR Doc. 2021-01161 Filed 1-19-21; 8:45 am]

BILLING CODE 4910-13-P